DEPARTMENT OF COMMERCE

International Trade Administration

[A-570-898]

Chlorinated Isocyanurates from the People's Republic of China: Notice of Extension of Time Limit for the Final Results of the Antidumping Duty Administrative Review

AGENCY: Import Administration, International Trade Administration, Department of Commerce.

EFFECTIVE DATE: October 13, 2009.

FOR FURTHER INFORMATION CONTACT: Jennifer Moats or Charles Riggle, AD/CVD Operations, Office 8, Import Administration, International Trade Administration, U.S. Department of Commerce, 14th Street and Constitution Avenue, NW, Washington, DC 20230; telephone: (202) 482-5047 or (202) 482-0650, respectively.

SUPPLEMENTARY INFORMATION:

Background

On June 8, 2009, the Department of Commerce (“the Department”) published the preliminary results of the administrative review of the antidumping duty order on chlorinated isocyanurates from the People's Republic of China (“PRC”). See Chlorinated Isocyanurates from the People's Republic of China: Preliminary Results of Administrative Review, 74 FR 27104 (June 8, 2009). This review covers the period June 1, 2007, through May 31, 2008. The final results of review are currently due no later than October 6, 2009.

Extension of Time Limit for Final Results of Review

Pursuant to section 751(a)(3)(A) of the Tariff Act of 1930, as amended (“the Act”), the Department shall issue the final results of an administrative review within 120 days after the date on which the preliminary results are published. However, if it is not practicable to complete the review within this time period, section 751(a)(3)(A) of the Act allows the Department to extend the time period to a maximum of 180 days. Completion of the final results of this review within the 120-day period is not practicable because the Department needs additional time to analyze and address complicated by-product and surrogate value issues for the final results. Because it is not practicable to complete this review within the time specified under the Act, we are extending the time period for issuing the final results of the administrative review by 30 days in accordance with section 751(a)(3)(A) of the Act. Therefore, the final results will be due Thursday, November 5, 2009, which is 150 days from publication of the preliminary results.

This notice is published in accordance with sections 751(a)(3)(A) and 777(i) of the Act.

Dated: October 2, 2009.
John M. Andersen,
Acting Deputy Assistant Secretary for Antidumping and Countervailing Duty Operations.

[FR Doc. E9-24604 Filed 10-9-09; 8:45 am]

BILLING CODE 3510-DS-S